DEPARTMENT OF THE INTERIOR

Bureau of Land Management

[WY-030-2001-1060-JJ]

Notice of Intent to Extend the Time Period for Removal of Excess and Stray Wild Horses

AGENCY: Bureau of Land Management, Interior.

SUMMARY: On June 21, 2000, notice was published in the Federal Register at Vol. 65, No 120, pgs 38572-38573, which stated in part, “* * * the Rawlins and Lander Field Offices of the Bureau of Land Management plan to remove 500-600 excess and stray horses from three contiguous areas of the Rawlins and Lander Field Offices known as the Lost Creek HMA, an area designated as I-80 North, and the Antelope Hills HMA * * * The removal is scheduled to begin after September 30, 2000, and conclude prior to January 1, 2001. The Appropriate Management Level for these three contiguous areas is 140. At least 140 horses will remain in the area after the removal is completed.”

Due to weather and logistical considerations, it was not possible to complete the action described in the notice in the time period originally envisioned; therefore the BLM will complete the action as soon after January 1, 2001, as is practical. The action will take place in the same manner, in the same places, employ the same practices for safe and humane treatment of the horses, and have the same effects as discussed in EA# WY-030-EA0-181.

FOR FURTHER INFORMATION CONTACT: For further information, please contact Chuck Reed, Resource Advisor, Bureau of Land Management, Rawlins Field Office, 1300 North Third Street, P.O. Box 2407, Rawlins, Wyoming 82301, (307) 328-4200; electronic mail at Chuck—Reed@blm.gov.

Kurt J. Kotter,
Field Manager.

[FR Doc. 00-30586 Filed 11-30-00; 8:45 am]

BILLING CODE 4310-22-P